DEPARTMENT OF THE INTERIOR

National Park Service

Notice of Inventory Completion for Native American Human Remains and Associated Funerary Objects in the Possession of the Oshkosh Public Museum, Oshkosh, WI

AGENCY: National Park Service

ACTION: Notice

Notice is hereby given in accordance with provisions of the Native American Graves Protection and Repatriation Act (NAGPRA), 43 CFR 10.9, of the completion of an inventory of human remains and associated funerary objects in the possession of the Oshkosh Public Museum, Oshkosh, WI.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains and associated funerary objects was made by Oshkosh Public Museum professional staff in consultation with representatives of the Menominee Indian Tribe of Wisconsin.

In 1961, human remains representing three individuals were removed during excavations at the Riverside Site (20-ME-1), Menominee County, MI by Oshkosh Public Museum staff Robert Hruska. No known individuals were identified. The four associated funerary objects include copper beads, bifaces, and fiber fragments.

The remains of one of the three individuals are cremated. The Riverside Site is a multi-component cemetery and habitation site. Intermittent occupation of the site spans a time period circa 1000 B.C.-A.D. 1850. On the basis of the four associated funerary objects, these cremated remains are dated to the earliest occupation of the Riverside Site. The stylistic attributes of the copper objects are characteristic of the Red Ochre Culture, an archeologically defined culture within the Archaic Period, dated to 1000-400 B.C. Oral history sources identify the mouth of Green Bay, WI, where the Riverside Site is located, as the emergence area for the Menominee people.

The remains of two of the three individuals were removed from Feature A. Funerary objects date this burial feature to the 18th and 19th centuries. These objects, not in the possession of the Oshkosh Public Museum, consist of glass beads, a kettle brass bracelet, and a ceramic vessel.

In 1964, human remains representing 1 individual and 31 associated funerary objects were removed during excavations conducted by the Wisconsin Archaeological Society from the Potato Rapids Burial Site (47-Mt-79), Peshtigo, Marinette County, WI. These remains and objects were donated to the Oshkosh Public Museum by the Wisconsin Archaeological Society at an unknown date after 1964. No known individual was identified. The associated funerary objects include an iron axe, two bone beads, wampum beads, seed beadwork, a metal bowl, five silver bracelets, four silver brooches, six silver buttons, one metal can, one comb, one silver crescent, two silver earrings, three gunflints, one clay pipe, fabric, and fiber remains. The associated funerary objects are trade items consistent with materials owned by Menominee people circa A.D. 1830-1850.

The Potato Rapids Burial Site is located within the area occupied by the Menominee Indians in the 19th century.

Circa 1936, human remains representing one individual were removed from the Robert Grignon Trading Post Site (47-Wn-137), Winnebago, WI by Oshkosh Public Museum staff Arthur Kannenberg. Documentation indicates that the tombstone that marked this burial identified the remains as those of “Mary/wife of/Robert Grignon/died Dec 24, 1851/age/37 years.” The remains were, reportedly, re-buried in the same grave except for two vertebrae and two teeth that are now in the possession of the Oshkosh Public Museum. A contemporaneous account of the excavation of the grave identified Mary Grignon as the daughter of a full-blooded Menominee chief. Other historical sources indicate that her Menominee name is Wak-nau-go-lak. No associated funerary objects are present.

Oral history indicates that the Riverside Site is located in the prehistoric traditional territory of the Menominee people. Historical evidence indicates that both the Potato Rapids Burial Site and the 19th century component of the Riverside Site were located within the historically documented 19th century Menominee territory at the time of occupation. Historical evidence provides likely personal identification and cultural affiliation for one of the individuals. There is no evidence to contradict these findings.

Based on the above-mentioned information, officials of the Oshkosh Public Museum have determined that, pursuant to 43 CFR 10.2 (d)(1), the human remains described above represent the physical remains of five individuals of Native American ancestry. Officials of the Oshkosh Public Museum also have determined that, pursuant to 43 CFR 10.2 (d)(2), the 35 objects listed above are reasonably believed to have been placed with or near individual human remains at the time of death or later as part of the death rite or ceremony. While the likely identity of one of the individuals reported in this notice has been determined, officials of the Oshkosh Public Museum have not been able to trace a direct and unbroken line of descent to a particular individual, pursuant to 43 CFR 10.2 (b)(1). Lastly, officials of the Oshkosh Public Museum have determined that, pursuant to 43 CFR 10.2 (e), there is a relationship of shared group identity that can be reasonably traced between these Native American human remains and associated funerary objects and the Menominee Indian Tribe of Wisconsin.

This notice has been sent to officials of the Bad River Band of the Lake Superior Tribe of Chippewa Indians of the Bad River Reservation, Wisconsin; Boise Fort Band (Nett Lake) of the Minnesota Chippewa Indians; Fond du Lac Band of Minnesota Chippewa Indians; Grand Portage Band of the Minnesota Chippewa Indians; Keweenaw Bay Indian Community of L'Anse & Ontonagon Bands of Chippewa Indians of the L'Anse Reservation, Michigan; Lac Courte Oreilles Band of Lake Superior Chippewa Indians of the Lac Courte Oreilles Reservation of Wisconsin; Lac Vieux Desert Band of Lake Superior Chippewa Indians of Michigan; Leech Lake Band of Minnesota Chippewa Indians; Menominee Indian Tribe of Wisconsin; Mille Lacs Band of Minnesota Chippewa Indians; Red Cliff Band of Lake Superior Chippewa Indians of Wisconsin; Sokoagon Chippewa Community of the Mole Lake Band of Chippewa Indians, Wisconsin; St. Croix Chippewa Indians of Wisconsin, St. Croix Reservation; Stockbridge-Munsee Community of Mohican Indians of Wisconsin; White Earth Band of Minnesota Chippewa Indians; and Hannahville Indian Community of Wisconsin Potawatomi Indians of Michigan. Representatives of any other Indian tribe that believes itself to be culturally affiliated with these human remains and associated funerary objects should contact Joan Lloyd, Registrar, Oshkosh Public Museum, 1331 Algoma Boulevard, Oshkosh, WI 54901, telephone (920) 424-4747, before November 24, 2000. Repatriation of the human remains and associated funerary objects to the Menominee Indian Tribe of Wisconsin may begin after that date if no additional claimants come forward.

Dated: October 6, 2000.
John Robbins,
Assistant Director, Cultural Resources Stewardship and Partnerships.

[FR Doc. 00-27394 Filed 10-24-00; 8:45 am]

BILLING CODE 4310-70-F